DEPARTMENT OF THE INTERIOR

National Park Service

[NPS-WASO-NAGPRA-NPS0026454;PPWOCRADN0-PCU00RP14.R50000]

Notice of Inventory Completion: Office of the State Archeologist Bioarcheology Program, University of Iowa, Iowa City, IA

AGENCY: National Park Service, Interior.

ACTION: Notice.

SUMMARY: The Office of the State Archeologist Bioarcheology Program has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the Office of the State Archeologist Bioarcheology Program. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the Office of the State Archeologist Bioarcheology Program at the address in this notice by November 5, 2018.

ADDRESSES: Dr. Lara Noldner, Office of the State Archeologist Bioarcheology Program, University of Iowa, 700 South Clinton Street, Iowa City, IA 52242, telephone (319) 384-0740, email lara-noldner@uiowa.edu.

SUPPLEMENTARY INFORMATION: Notice is here given in accordance with the Native American Graves Protection and Repatriation Act (NAGPRA), 25 U.S.C. 3003, of the completion of an inventory of human remains under the control of the Office of the State Archeologist Bioarcheology Program, Iowa City, IA. The human remains were removed from an unknown location in Colorado.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Office of the State Archeologist Bioarcheology Program professional staff in consultation with representatives of the Hopi Tribe of Arizona; Kewa Pueblo, New Mexico (previously listed as the Pueblo of Santo Domingo); Ohkay Owingeh, New Mexico (previously listed as the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; and the Zuni Tribe of the Zuni Reservation, New Mexico, hereafter referred to as “The Consulted Tribes.”

History and Description of the Remains

At an unknown date, human remains representing, at minimum, one individual were removed from an unknown location, likely in Colorado. A human cranium was found in the Biology Department of Clarke College in Dubuque, Iowa. No information was available about the origin of the cranium other than a paper label, on which the following was written: PUEBLO—INDIAN (CLIFF DWELLER)—Colorado. The human remains were transferred to the Office of the State Archeologist Bioarcheology Program in 2014. A middle-aged adult, possibly female, is represented by the cranium (OSA BP 2989). Craniofacial morphology and severe dental attrition support the identification of the remains as Native American. No known individuals were identified. No associated funerary objects are present.

At the time of the excavation and removal of these human remains, the land from which the human remains were removed was not the tribal land of any Indian Tribe or Native Hawaiian organization. In June 2018, the Office of the State Archeologist Bioarcheology Program consulted with all Indian Tribes who are recognized as aboriginal to the area from which these Native American human remains were removed. None of these Tribes agreed to accept control of the human remains. In June 2018, the Office of the State Archeologist Bioarcheology Program agreed to transfer control of the human remains to the Pueblo of Acoma, New Mexico.

Determinations Made by the Office of the State Archeologist Bioarcheology Program

Officials of the Office of the State Archeologist Bioarcheology Program have determined that:

• Pursuant to 25 U.S.C. 3001(9), the human remains described in this notice are Native American based on dental attrition, provenience information, and craniofacial morphology.

• Pursuant to 25 U.S.C. 3001(9), the human remains described in this notice represent the physical remains of one individual of Native American ancestry.

• Pursuant to 25 U.S.C. 3001(2), a relationship of shared group identity cannot be reasonably traced between the Native American human remains and any present-day Indian Tribe.

• Pursuant to 43 CFR 10.11(c)(2)(i), the disposition of the human remains may be to The Pueblo of Acoma, New Mexico.

Additional Requestors and Disposition

Representatives of any Indian Tribe or Native Hawaiian organization not identified in this notice that wish to request transfer of control of these human remains should submit a written request with information in support of the request to Dr. Lara Noldner, Office of the State Archeologist Bioarcheology Program, University of Iowa, 700 South Clinton Street, Iowa City, IA 52242, telephone (319) 384-0740, email lara-noldner@uiowa.edu, by November 5, 2018. After that date, if no additional requestors have come forward, transfer of control of the human remains to The Tribes may proceed.

The Office of the State Archeologist Bioarcheology Program is responsible for notifying The Consulted Tribes that this notice has been published.

Dated: September 7, 2018
Melanie O'Brien,
Manager, National NAGPRA Program.

[FR Doc. 2018-21757 Filed 10-4-18; 8:45 am]

BILLING CODE 4312-52-P